DEPARTMENT OF ENERGY

10 CFR Part 431

[Docket No. EERE-2013-BT-STD-0040]

RIN 1904-AC83

Energy Efficiency Program for Consumer Products: Energy Conservation Standards for Commercial and Industrial Air Compressors

AGENCY: Office of Energy Efficiency and Renewable Energy, Department of Energy (DOE).

ACTION: Notice of public meeting and extension of public comment period.

SUMMARY: This document announces a new date for the March 3, 2014, public meeting that was postponed due to inclement weather, and an extension of the time period for submitting comments concerning the February 5, 2014, Framework Document about whether to establish energy conservation standards for commercial and industrial air compressors. The public meeting has been rescheduled for April 1, 2014. The comment period is extended to April 22, 2014.

DATES: DOE will hold a public meeting on April 1, 2014, from 9:00 a.m. to 3:30 p.m., in Washington, DC. In addition, DOE plans to broadcast the public meeting via webinar. You may attend the public meeting either in person or via webinar. Registration information, participant instructions, and also information about the capabilities available to webinar participants will be published in advance on DOE's Web site at: http://www1.eere.energy.gov/buildings/appliance_standards/rulemaking.aspx/ruleid/58. Webinar participants are responsible for ensuring their systems are compatible with the webinar software.

The comment period for submissions regarding the Framework Document has been extended to April 22, 2014.

ADDRESSES: Meeting: The public meeting will be held at the U.S. Department of Energy, Forrestal Building, Room 8E-089, 1000 Independence Avenue SW., Washington, DC 20585-0121.

Please note that any visitor with a personal computer who enters the Forrestal Building is required to be screened and to obtain a property pass upon entry. Such visitors should allow 45 minutes for the screening process. As noted above, persons may also attend the public meeting via webinar.

Comments: DOE will accept written comments, data, and other related information about the Framework Document before and after the public meeting, but not later than April 22, 2014. Interested parties are encouraged to submit comments electronically. However, comments may be submitted by any of the following methods:

• Federal eRulemaking Portal: www.regulations.gov. Follow the instructions for submitting comments.

• Email: Compressors2013STD0040@ee.doe.gov. Include docket number EERE-2013-BT-STD-0040 and/or regulation identifier number (RIN) 1904-AC83 in the subject line of the message. All comments should clearly identify the name, address, and, if appropriate, organization of the commenter. Submit electronic comments either in WordPerfect, Microsoft Word, portable document format (PDF), or American Standard Code for Information Interchange (ASCII) file format, and avoid the use of special characters or any form of encryption.

• Postal Mail: Ms. Brenda Edwards, U.S. Department of Energy, Building Technologies Office, Mailstop EE-5B, Framework Document for Commercial and Industrial Air Compressors, Docket No. EERE-2013-BT-STD-0040 and/or RIN 1904-AC83, 1000 Independence Avenue SW., Washington, DC 20585-0121. If possible, please submit all items on a compact disc (CD), in which case it is not necessary to include printed copies. [Please note that comments sent by mail are often delayed and may be damaged by mail screening processes.]

• Hand Delivery/Courier: Ms. Brenda Edwards, U.S. Department of Energy, Building Technologies Office, Sixth Floor, 950 L'Enfant Plaza SW., Washington, DC 20024. Telephone: (202) 586-2945. If possible, please submit all items on a CD, in which case it is not necessary to include printed copies.

Instructions: All submissions received must include the agency name and docket number and/or RIN for this rulemaking. No telefacsimilies (faxes) will be accepted.

Docket: The docket is available for review at http://www.regulations.gov, and will include Federal Register notices, framework document, public meeting attendee lists and transcripts, comments, and other supporting documents/materials throughout the rulemaking process. The regulations.gov Web page contains simple instructions on how to access all documents, including public comments, in the docket. The docket can be accessed by searching for docket number EERE-2013-BT-STD-0040 on the regulations.gov Web site. All documents in the docket are listed in the www.regulations.gov index. However, not all documents listed in the index may be publicly available, such as information that is exempt from public disclosure.

For information on how to submit a comment, review other public comments and the docket, or participate in the public meeting, contact Ms. Brenda Edwards at (202) 586-2945 or by email: Brenda.Edwards@ee.doe.gov.

FOR FURTHER INFORMATION CONTACT: James Raba, U.S. Department of Energy, Office of Energy Efficiency and Renewable Energy, Building Technologies Office, EE-5B, 1000 Independence Avenue SW., Washington, DC 20585-0121. Telephone: (202) 586-8654. Email: jim.raba@ee.doe.gov.

Michael Kido, U.S. Department of Energy, Office of the General Counsel, GC-71, 1000 Independence Avenue SW., Washington, DC 20585-0121. Telephone: (202) 586-8145. Email: michael.kido@hq.doe.gov.

For information on how to submit or review public comments and on how to participate in the public meeting, contact Ms. Brenda Edwards, U.S. Department of Energy, Office of Energy Efficiency and Renewable Energy, Building Technologies Office, EE-5B, 1000 Independence Avenue SW., Washington, DC 20585-0121. Telephone (202) 586-2945. Email: Brenda.Edwards@ee.doe.gov.

SUPPLEMENTARY INFORMATION: On February 5, 2014, DOE published a notice announcing the availability of a Framework Document and a public meeting to discuss that document. See 79 FR 6839. That notice announced that the public meeting would be held on March 3, 2014 and that written comments to DOE regarding the Framework Document would need to be submitted by no later than March 24, 2014. In light of the inclement weather that forced the cancellation of the March 3rd meeting, DOE is rescheduling the meeting to be held on April 1, 2014 and is providing commenters until April 22, 2014 to provide any written comments regarding the Framework Document. Accordingly, DOE will consider any comments received by April 22, 2014, to be timely submitted.

Issued in Washington, DC, on March 12, 2014.
Kathleen B. Hogan,
Deputy Assistant Secretary for Energy Efficiency, Energy Efficiency and Renewable Energy.

[FR Doc. 2014-05933 Filed 3-17-14; 8:45 am]

BILLING CODE 6450-01-P